DEPARTMENT OF ENERGY

Federal Energy Regulatory Commission

[Docket No. EL02-66-000]

Minnesota Municipal Power Agency, Complainant, v. Southern Minnesota Municipal Power Agency, Respondent; Notice of Complaint

March 14, 2002.

Take notice that on March 11, 2002, the Minnesota Municipal Power Agency (the MMPA) filed a Complaint against the Southern Minnesota Municipal Power Agency (SMMPA), for improperly charging the MMPA for losses under SMMPA's Open Access Transmission Tariff.

Pursuant to requirements set forth in 18 CFR 385.206, MMPA has served a copy of the complaint and supporting documents upon SMMPA.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before April 1, 2002. Protests will be considered by the Commission in determining the appropriate action to be taken, but will not serve to make protestants parties to the proceeding. Any person wishing to become a party must file a motion to intervene. Answers to the complaint shall also be due on or before April 1, 2002. Copies of this filing are on file with the Commission and are available for public inspection. This filing may also be viewed on the web at http://www.ferc.gov using the “RIMS” link, select “Docket#” and follow the instructions (call 202-208-2222 for assistance). Comments, protests, interventions and answers may be filed electronically via the Internet in lieu of paper. See, 18 CFR 385.2001(a)(1)(iii) and the instructions on the Commission's web site under the “e-Filing” link.

Linwood A. Watson, Jr.,
Deputy Secretary.

[FR Doc. 02-6697 Filed 3-19-02; 8:45 am]

BILLING CODE 6717-01-P